DEPARTMENT OF STATE

[Public Notice 10209]

U.S. National Commission for UNESCO Notice of Web Conference Meeting

The 2017 Annual Meeting of the U.S. National Commission for the United Nations Educational, Scientific and Cultural Organization (UNESCO) will take place on Tuesday, December 12, 2017, starting at 1:00 p.m. Eastern Standard Time. This will be a web conference meeting to discuss recent UNESCO developments, including the election of new UNESCO Director-General Azoulay; overall assessments/outcomes of the 39th General Conference; the U.S. decision to withdraw from UNESCO, effective December 31, 2018; and plans for the Commission during this time of transition. The Commission will accept brief oral comments during a portion of this web conference. The public comment period will be limited to approximately 30 minutes in total, with five minutes allowed per speaker. For more information, or to arrange to participate in the web conference, individuals are asked to contact the Executive Director of the National Commission by Friday, December 8, 2017, at the following email address: DCUNESCO@state.gov.

Paul Mungai,
Acting Executive Director, U.S. National Commission for UNESCO, Department of State.

[FR Doc. 2017-25274 Filed 11-21-17; 8:45 am]

BILLING CODE 4710-19-P